DEPARTMENT OF HEALTH AND HUMAN SERVICES

Administration for Community Living

Availability of Program Application Instructions for Long-Term Care Ombudsman Program Funds

Title: American Rescue Plan (ARP) for State Long-Term Care Ombudsman Programs under Title VII of the OAA—Response in Residential Care Communities.

Announcement Type: Initial.

Statutory Authority: American Rescue Plan (ARP) Act of 2021 [Pub. L. 117-2] for activities authorized under Title VII of the Older Americans Act of 1965, as amended through Public Law 116-131, enacted March 25, 2020.

Catalog of Federal Domestic Assistance (CFDA) Number: 93.042.

Dates: The deadline for State Agencies on Aging to submit their Program Plan for Long-Term Care Ombudsman Programs is June 24, 2022.

I. Funding Opportunity Description

The purpose of this funding opportunity for State Long-Term Care Ombudsman Programs is to enhance their capacity to respond to and resolve complaints about abuse and neglect, especially in board and care facilities and similar adult care homes, including assisted living facilities. Residents of these types of homes are less likely to have the benefit of federal oversight or regulation or clear requirements for preserving and respecting for their rights during the COVID-19 public health emergency, thus making the Ombudsman program presence essential. These funds will allow Ombudsman programs to develop capacity through activities such as hiring staff and recruiting and training volunteers to conduct visits and investigate complaints, develop resident and family councils, and provide information and assistance and education on resident rights and prevention of abuse and neglect.

To be eligible to receive this grant, each State Long-Term Care Ombudsman and State Agency on Aging must submit a co-signed plan as described in Section III of this FRN, Eligibility Criteria and Other Requirements. The plan will be considered an Amendment to the State Plan on Aging and must describe the State Ombudsman plans for use of these supplemental funds.

ACL seeks plans developed by State Ombudsman Programs that describe how the Ombudsman program will use American Rescue Plan Act funds to fulfill the purpose of the funding opportunity within the authority of Title VII Chapter 2 of the Older Americans Act.

II. Award Information

1. Funding Instrument Type: These grants are mandatory supplemental grants, appropriated through the Elder Justice Act as amended by the American Rescue Plan Act of 2021. The State Ombudsman will determine the use of the funds in accordance with the federal Ombudsman rule at 45 CFR 1324.13(f). The State Agency on Aging will assure that the funds are used consistent with the Ombudsman's determination and the plan submitted in response to this Notice.

2. Anticipated Total Priority Area Funding: The total available funding for this opportunity is $17,910,000. ACL intends to make available grant awards to State Agencies on Aging for their State Long-Term Care Ombudsman programs. The period of performance for these grants, during which grant activities must occur, is estimated to commence August 1, 2022 and is projected to end on September 30, 2025.

Each State Agency on Aging/State Ombudsman is eligible to apply for and receive the amount in the table below:

Alabama | $269,337
Alaska | 89,550
Arizona | 411,517
Arkansas | 163,153
California | 1,858,433
Colorado | 275,872
Connecticut | 200,896
Delaware | 89,550
District of Columbia | 89,550
Florida | 1,366,626
Georgia | 494,969
Hawaii | 89,550
Idaho | 93,856
Illinois | 650,221
Indiana | 347,117
Iowa | 173,554
Kansas | 150,909
Kentucky | 238,893
Louisiana | 238,502
Maine | 89,913
Maryland | 309,810
Massachusetts | 371,889
Michigan | 562,787
Minnesota | 296,560
Mississippi | 154,825
Missouri | 336,900
Montana | 89,550
Nebraska | 98,634
Nevada | 159,307
New Hampshire | 89,550
New Jersey | 471,343
New Mexico | 116,024
New York | 1,039,648
North Carolina | 558,290
North Dakota | 89,550
Ohio | 650,212
Oklahoma | 201,357
Oregon | 238,302
Pennsylvania | 751,491
Rhode Island | 89,550
South Carolina | 297,034
South Dakota | 89,550
Tennessee | 364,274
Texas | 1,226,368
Utah | 118,998
Vermont | 89,550
Virginia | 435,370
Washington | 386,796
West Virginia | 112,671
Wisconsin | 326,597
Wyoming | 89,550
American Samoa | 11,194
Guam | 44,775
Northern Marianas | 11,194
Puerto Rico | 203,757
Virgin Islands | 44,775

III. Eligibility Criteria and Other Requirements

1. Eligible entities for this award are State Agencies on Aging for use by the State Long-Term Care Ombudsman Programs according to the plan developed by the State Long-Term Care Ombudsman.

2. No Match or Cost Sharing is required.

3. State Agencies on Aging and State Ombudsmen must provide a plan no later than June 24, 2022. The plan must contain descriptions of actions and corresponding expenditure estimates that will achieve improvements as noted below, especially for Ombudsman work in congregate residential settings described in the Funding Opportunity Description. Alternative activities may be proposed to effectively achieve the purpose of the funding opportunity. Activities may include:

a. Staff augmentation.

b. Volunteer engagement.

c. Training for staff of board and care homes, assisted living facilities and/or similar entities and for Ombudsman representatives to enhance their ability to engage in complaint resolution and other advocacy about abuse, neglect, and exploitation; COVID-19 impact; specific needs of residents living in residential care communities, as identified through Ombudsman data, the CMS Home and Community-based Services Settings Rule, and other relevant matters.

d. Increase in visits to facilities, based on data identifying gaps.

e. Increase in work with resident and/or family councils in facilities, based on data identifying gaps.

4. A cover letter containing specified assurances must be included and signed by both the State Agency on Aging Director or designee and the State Long-Term Care Ombudsman. The letter must include the following assurances:

i. These funds must supplement, and not supplant, existing funding for the State Ombudsman program.

ii. The State Agency on Aging will timely submit to ACL semi-annual federal financial reports and annual program reports related to the activities performed.

iii. The State Ombudsman will determine the use of the funds in accordance with the federal Ombudsman rule at 45 CFR 1324.13(f) and the State Agency on Aging will assure that the funds are used consistent with the Ombudsman's determination and the plan submitted in response to this Notice.

5. Unique Entry ID Number: All grant applicants must obtain and keep current a Unique Entity ID (UEI). On April 4, 2022, the unique entity identifier used across the federal government changed from the DUNS Number to the Unique Entity ID (generated by SAM.gov). The Unique Entity ID is a 12-character alphanumeric ID assigned to an entity by SAM.gov. The UEI is viewable in your SAM.gov entity registration record.

6. Intergovernmental Review: Executive Order 12372, Intergovernmental Review of Federal Programs, is not applicable to these grant applications.

IV. Submission Information

1. Plans and cover letters should be addressed to Alison Barkoff, Acting Administrator/Assistant Secretary for Aging, Administration for Community Living, 330 C Street SW, Washington, DC 20201.

Plans and cover letters should be submitted electronically via email to Beverley Laubert, National Ombudsman Program Coordinator at Beverley.Laubert@acl.hhs.gov.

2. Submission Dates and Times: To receive consideration, plans and cover letters must be submitted by June 24, 2022 via email and have an electronic time stamp indicating the date and time submitted.

Dated: May 19, 2022.
Alison Barkoff,
Acting Administrator and Assistant Secretary for Aging.

[FR Doc. 2022-11172 Filed 5-24-22; 8:45 am]

BILLING CODE 4154-01-P